DEPARTMENT OF THE INTERIOR

Fish and Wildlife Service

[FWS-R6-ES-2015-N029]; [FXES11130600000-156-FF06E00000]

Endangered and Threatened Wildlife and Plants; Recovery Permit Applications

AGENCY: Fish and Wildlife Service, Interior.

ACTION: Notice of availability; request for comments.

SUMMARY: We, the U.S. Fish and Wildlife Service, invite the public to comment on four applications to conduct activities intended enhance the survival of target endangered or threatened species. The Endangered Species Act of 1973, as amended (Act), prohibits certain activities with endangered and threatened species unless authorized by a Federal permit. The Act requires that we invite public comment before issuing these permits.

DATES: To ensure consideration, please send your written comments by April 22, 2015.

ADDRESSES: You may submit comments or requests for copies or more information by any of the following methods. Alternatively, you may use one of the following methods to request hard copies or a CD-ROM of the documents. Please specify the permit you are interested in by number (e.g., Permit No. TE-XXXXXX).

• Email: permitsR6ES@fws.gov. Please refer to the respective permit number (e.g., Permit No. TE-XXXXXX) in the subject line of the message.

• U.S. Mail: Ecological Services, U.S. Fish and Wildlife Service, P.O. Box 25486-DFC, Denver, CO 80225.

• In-Person Drop-off, Viewing, or Pickup: Call (719) 628-2670 to make an appointment during regular business hours at 134 Union Blvd., Suite 645, Lakewood, CO 80228.

FOR FURTHER INFORMATION CONTACT: Kathy Konishi, Recovery Permits Coordinator, Ecological Services, (719) 628-2670 (phone); permitsR6ES@fws.gov (email).

SUPPLEMENTARY INFORMATION:

Background

The Act (16 U.S.C. 1531 et seq.) prohibits certain activities with endangered and threatened species unless authorized by a Federal permit. Along with our implementing regulations at 50 CFR 17, the Act provides for permits and requires that we invite public comment before issuing these permits.

A permit granted by us under section 10(a)(1)(A) of the Act authorizes the permittees to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, and Federal agencies and the public to comment on the following applications. Documents and other information the applicants have submitted with their applications are available for review, subject to the requirements of the Privacy Act (5 U.S.C. 552a) and Freedom of Information Act (5 U.S.C. 552).

Permit Application Number TE43046A

Applicant: Kirk Mammoliti, Greenwood, MO.

The applicant requests a permit to conduct presence/absence surveys for Topeka shiner (Notropis topeka) in Kansas to identify and avoid occupied habitat during reclamation activities for the purpose of enhancing the species' survival.

Permit Application Number TE060668

Applicants: Bellini Environmental Consulting, Midway, UT.

The applicants request an amendment to expand the geographic survey area for Southwestern willow flycatcher (Empidonax traillii extimus) from Utah to range-wide authorization for the purpose of enhancing the species' survival.

Permit Application Number TE207946

Applicant: Bureau of Reclamation, Denver, CO.

The applicant requests a permit to conduct presence/absence surveys for New Mexico meadow jumping mouse (Zapus hudsonius luteus) in Colorado to identify and avoid occupied habitat during land reclamation activities for the purpose of enhancing the species' survival.

Permit Application Number TE56902B

Applicant: Bureau of Reclamation, Denver, CO.

The applicant requests a permit to conduct presence/absence surveys for pallid sturgeon (Scaphirhynchus albus) in the Yellowstone River of Montana to develop a baseline analysis of occupied habitat. These data will assist in the evaluation of the effectiveness of a proposed fish bypass structure. The proposed structure will provide passage of pallid sturgeon and other native fishes around current impediments constructed in 1907 for the purpose of enhancing the species' survival.

National Environmental Policy Act

In compliance with the National Environmental Policy Act (42 U.S.C. 4321 et seq.), we have made an initial determination that the proposed activities in these permits are categorically excluded from the requirement to prepare an environmental assessment or environmental impact statement (516 DM 6 Appendix 1, 1.4C(1)).

Public Availability of Comments

All comments and materials we receive in response to these requests will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Michael G. Thabault,
Assistant Regional Director, Mountain-Prairie Region.

[FR Doc. 2015-06521 Filed 3-20-15; 8:45 am]

BILLING CODE 4310-55-P